LEGAL SERVICES CORPORATION

Sunshine Act Meeting

Time and Date: The Search Committee for LSC President and Inspector General of the Legal Services Corporation's Board of Directors will meet on June 28, 2003. The meeting will begin at 9:00 a.m. and continue until conclusion of the Committee's agenda.

Location: The Latham Hotel, 3000 M Street, NW, Washington, DC

Status of Meeting: Open, except that a portion of the meeting may be closed pursuant to a vote of the Board of Directors to hold an executive session. The closing is authorized by the relevant provisions of the Government in the Sunshine Act [5 U.S.C. 552b(c)(2), (4) & (6)] and the corresponding provisions of the Legal Services Corporation's implementing regulation [45 CFR § 1622.5(a), (c) & (e)]. A copy of the General Counsel's Certification that the closing is authorized by law will be available upon request.

Matters to be Considered:

Open Session

1. Approval of agenda.

2. Presentations by representatives of the National Legal Aid & Defender Association (NLADA) and the ABA's Standing Committee for Legal Aid and Indigent Defendants (SCLAID).

3. Other public comment.

4. Consider and act on future activities for the Committee.

5. Consider and act on other business.

Closed Session

6. Consider and act on search firm options.

Open Session

7. Consider and act on adjournment of meeting.

FOR FURTHER INFORMATION CONTACT: Victor M. Fortuno, Vice President for Legal Affairs, General Counsel and Corporate Secretary, at (202) 295-1500.

Special Needs: Upon request, meeting notices will be made available in alternate formats to accommodate visual and hearing impairments. Individuals who have a disability and need an accommodation to attend the meeting may notify Elizabeth S. Cushing at (202) 295-1500.

Dated: June 20, 2003.
Victor M. Fortuno,
Vice President for Legal Affairs, General Counsel, and Corporate Secretary.

[FR Doc. 03-16068 Filed 6-20-03; 2:16 pm]

BILLING CODE 7050-01-P